DEPARTMENT OF VETERANS AFFAIRS

[OMB Control No. 2900-NEW]

Agency Information Collection Activity: Program of Comprehensive Assistance for Family Caregivers (PCAFC)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each new approved collection, and allow 60 days for public comment in response to the notice.

DATES: Written comments and recommendations on the proposed collection of information should be received on or before August 17, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 111-163; 38 U.S.C., Part I, Chapter 5, Section 527.

Title: Program of Comprehensive Assistance for Family Caregivers (PCAFC).

OMB Control Number: 2900-NEW.

Type of Review: New collection.

Abstract: Public Law 111-163, Caregivers and Veterans Omnibus Health Services Act of 2010 authorized the Department of Veteran Affairs to implement the Program of Comprehensive Assistance for Family Caregivers (PCAFC). The resultant data from the individual Veteran and caregiver satisfaction surveys will be used to inform VA with an overall gauge of satisfaction with PCAFC participants and will assist in the identification of possible future program improvements. The surveys will solicit voluntary opinions and are not intended to collect information required to obtain or maintain eligibility for a Department of Veterans Affairs (VA) program or benefit.

Affected Public: Individuals and households.

Estimated Annual Burden:

Veteran Survey: 6,750 hours.

Caregiver Survey: 7,000 hours.

Estimated Average Burden per Respondent:

Veteran Survey: 15 minutes.

Caregiver Survey: 15 minutes.

Frequency of Response: Once.

Estimated Number of Respondents:

Veteran Survey: 27,000.

Caregiver Survey: 28,000.

By direction of the Secretary.
Cynthia D. Harvey-Pryor,
Department Clearance Officer, Office of Quality, Privacy and Risk, Department of Veterans Affairs.

[FR Doc. 2018-13026 Filed 6-15-18; 8:45 am]

BILLING CODE 8320-01-P